DEPARTMENT OF HEALTH AND HUMAN SERVICES

National Institutes of Health

Eunice Kennedy Shriver National Institute of Child Health and Human Development; Notice of Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Child Health and Human Development Special Emphasis Panel; Neonatal Research Network.

Date: November 7-8, 2022.

Closed: 10:00 a.m. to 1:00 p.m.

Agenda: To review and evaluate grant applications.

Place: National Institutes of Health, Eunice Kennedy Shriver National Institute of Child Health and Human Development, 6710B Rockledge Drive, Room 2140, Bethesda, MD 20892-7510 (Virtual Meeting).

Contact Person: Joanna Kubler-Kielb, Scientific Review Officer, Scientific Review Branch, Eunice Kennedy Shriver National Institute of Child Health and Human Development, NIH 6710B, Rockledge Drive, Room 2140, Bethesda, MD 20892, (301) 435-6916, kielbj@mail.nih.gov.

Name of Committee: National Institute of Child Health and Human Development Special Emphasis Panel; Neonatal Research Network and Maternal-Fetal Medicine Units Network: Data Coordinating Centers.

Date: November 10, 2022.

Closed: 1:00 p.m. to 3:00 p.m.

Agenda: To review and evaluate grant applications.

Place: National Institutes of Health, Eunice Kennedy Shriver National Institute of Child Health and Human Development, 6710B Rockledge Drive, Rm. 2127D, Bethesda, MD 20892-7510 (Virtual Meeting).

Contact Person: Luis E. Dettin, Ph.D., MS, MA, Scientific Review Officer, Scientific Review Branch, Eunice Kennedy Shriver National Institute of Child Health and Human Development, NIH 6710B, Rockledge Drive, Rm. 2127D, Bethesda, MD 20892, (301) 219-3400, luis_dettin@nih.gov.

Name of Committee: National Institute of Child Health and Human Development Special Emphasis Panel; Pediatric Scientist Development Program.

Date: November 15, 2022.

Closed: 11:00 a.m. to 1:00 p.m.

Agenda: To review and evaluate grant applications.

Place: National Institutes of Health, Eunice Kennedy Shriver National Institute of Child Health and Human Development, 6710B Rockledge Drive, Rm. 2131B, Bethesda, MD 20892-7510 (Virtual Meeting).

Contact Person: Jolanta Maria Topczewska, Ph.D., Scientific Review Branch, Eunice Kennedy Shriver National Institute of Child Health and Human Development, NIH 6710B, Rockledge Drive, Rm. 2131B, Bethesda, MD 20892, (202) 309-7153, jolanta.topczewska@nih.gov.

Name of Committee: National Institute of Child Health and Human Development Special Emphasis Panel; Maternal-Fetal Medicine Units Network: Clinical Centers.

Date: November 17-18, 2022.

Closed: 12:00 p.m. to 4:00 p.m.

Agenda: To review and evaluate grant applications.

Place: National Institutes of Health, Eunice Kennedy Shriver National Institute of Child Health and Human Development, 6710B Rockledge Drive, Rm. 2127D, Bethesda, MD 20892-7510 (Virtual Meeting).

Contact Person: Luis E. Dettin, Ph.D., MS, MA, Scientific Review Officer, Scientific Review Branch, Eunice Kennedy Shriver National Institute of Child Health and Human Development, NIH 6710B, Rockledge Drive, Rm. 2127D, Bethesda, MD 20892, (301) 219-3400, luis_dettin@nih.gov.

Name of Committee: National Institute of Child Health and Human Development Special Emphasis Panel; Bioprinted Tissues Constructs.

Date: November 29, 2022.

Closed: 11:00 a.m. to 3:00 p.m.

Agenda: To review and evaluate grant applications.

Place: National Institutes of Health, Eunice Kennedy Shriver National Institute of Child Health and Human Development, 6710B Rockledge Drive, Rm. 2127B, Bethesda, MD 20892-7510 (Virtual Meeting).

Contact Person: Chi-Tso Chiu, Ph.D., Scientific Review Officer, Scientific Review Branch (SRB), Eunice Kennedy Shriver National Institute of Child Health & Human Development, NIH, DHHS, 6710B Rockledge Drive, Rm. 2127B, Bethesda, MD 20817, (301) 435-7486, chiuc@mail.nih.gov.

Name of Committee: National Institute of Child Health and Human Development Member Conflict Special Emphasis Panel.

Date: November 30, 2022.

Time: 10:00 a.m. to 1:00 p.m.

Agenda: To review and evaluate grant applications.

Place: National Institutes of Health, Eunice Kennedy Shriver National Institute of Child Health and Human Development, 6710B Rockledge Drive, Rm. 2125C, Bethesda, MD 20892-7510 (Virtual Meeting).

Contact Person: Moushumi Paul, Ph.D., BA, Scientific Review Officer, Scientific Review Branch (SRB), Eunice Kennedy Shriver National Institute of Child Health & Human Development, NIH, DHHS, 6710B Rockledge Drive, Rm. 2125C, Bethesda, MD 20817, (301) 496-3596, Moushumi.paul@nih.gov.

Any interested person may file written comments with the committee by forwarding the statement to the Contact Person listed on this notice. The statement should include the name, address, telephone number and when applicable, the business or professional affiliation of the interested person.

(Catalogue of Federal Domestic Assistance Program Nos. 93.865, Research for Mothers and Children, National Institutes of Health, HHS)

Dated: October 13, 2022.
David W. Freeman,
Program Analyst, Office of Federal Advisory Committee Policy.

[FR Doc. 2022-22647 Filed 10-18-22; 8:45 am]

BILLING CODE 4140-01-P